DEPARTMENT OF AGRICULTURE

Economic Research Service

Notice of Intent To Seek Approval to Collect Information

AGENCY: Economic Research Service, USDA.

ACTION: Notice and request for comments.

SUMMARY: In accordance with the Paperwork Reduction Act of 1995 (Pub. L. 104-13) and Office of Management and Budget (OMB) regulations at 5 CFR part 1320 (60 FR 44978, August 29, 1995), this notice announces the Economic Research Service's (ERS) intention to request approval for a new information collection from School Food Authorities, public primary and secondary school administrators, students, and parents of students. The study will collect information on school meal program operations, costs, and outcomes, and on the characteristics of participating schools and both participating and non-participating students.

DATES: Written comments on this notice must be received by September 24, 2003 to be assured of consideration.

ADDITIONAL INFORMATION OR COMMENTS: Requests for additional information or to comment regarding this notice should be directed to Joanne Guthrie, Food Assistance and Nutrition Research Program, Food and Rural Economics Division, Economic Research Service, U.S. Department of Agriculture, 1800 M Street, NW., Room N2154, Washington, DC 20036-5831; Telephone: 202-694-5373. Submit electronic comments to jguthrie@ers.usda.gov.

SUPPLEMENTARY INFORMATION:

Title: Integrated Study of School Meal Costs and Outcomes.

OMB Number: Not yet assigned.

Expiration Date: Three years from date of issuance.

Type of Request: Approval to collect information from School Food Authorities (SFAs), public primary and secondary school administrators, students, and parents of students.

Abstract: USDA's Economic Research Service (ERS) has the responsibility to provide social and economic intelligence on consumer, food marketing, and rural issues, including food security status of the poor; domestic food assistance programs; low-income assistance programs; economic food consumption determinations and trends; consumer demand for food quality, safety, and nutrition; food market competition and coordination; and food safety regulation. In carrying out this overall mission, ERS seeks approval of information gathering activities to conduct an integrated study of school meal costs and outcomes for the National School Lunch Program (NSLP) and School Breakfast Program (SBP).

The integrated study will collect data in five domains: policies and practices of schools and School Food Authorities (SFAs) affecting school meal programs; characteristics of USDA-reimbursable meals as offered, served, and consumed; costs and revenues of providing school meals; student participation and satisfaction; and students' dietary intakes and other student/family outcomes. Data will also be collected on the demographic characteristics of participating SFAs and schools, and on the characteristics of participating and non-participating students and their families.

This study will update national studies of program costs and outcomes that were conducted prior to the School Meal Initiative (SMI) of 1995. It will extend research findings from the School Nutrition Dietary Assessment Study II and the School Meals Initiative Implementation Study and explore, in a nationally representative study, the implications of their findings for program costs and outcomes. In addition, because of its integrated design and data collection, it will allow an unprecedented level of analysis of the relationship among key operating characteristics (such as menu planning systems), costs, and students' participation, consumption and quality of diet.

The sample frame for the study will include public school districts in the 48 contiguous States, the District of Columbia, and, for data to be collected by mail, Alaska and Hawaii. At all levels of sampling for the study, school districts will be elected randomly with probability proportional to size, and the sample will be nationally representative. A preliminary survey will collect data on school district characteristics, menu planning method, program operations, and foodservice costs and revenues. Respondents to the preliminary survey will comprise the sampling frame for the “main study.” A multi-level design will be implemented to avoid overburdened individual SFAs with excessive data collection requirement. All SFAs and schools sampled for the main study (Level 1) will be asked to provide data on school meal program operations and information on reimbursable meals offered and served during a randomly assigned school week. A subset of SFAs and schools (Level 2) will be asked to provide detailed information on reported and unreported food service costs. Student and parent interviews will be conducted in a separate subset of SFAs and schools (Level 3) to obtain information on students' dietary intakes and other student/family outcomes.

The study and its data collection methodologies have been designed to minimize respondent between wherever possible without compromising data quality. Responses to all surveys will be voluntary and confidential. to ensure confidentiality, data will be reported only in tabular form, with analysis cells large to prevent identification of individual agencies, schools, or persons. The data will not be used to evaluate individual schools, school districts, or States. All respondents will be notified to these confidentiality assurances by letter (SFA and school respondents) or Informed Consent/Assent Forms (parents and children).

Estimate of Burden: For the preliminary mail survey, burden for the SFA Directors is estimated to be 90 minutes per response. (All burden estimates include time to prepare for and complete surveys of interview.) For all Level 1 sites, the burden estimates per response are as follows: SFA Director mail survey, 77 minutes; Kitchen Manager mail survey, 20 minutes; School Principal mail survey, 25 minutes. For the Level 1-only and Level 3 SFAs, the burden estimates for the self-administered, mail-based Menu Survey are: 330 minutes per SFA director, and 510 minutes per Kitchen Manager. For Level 1 in-person cost interviews, the burden estimates are as follows: SFA Director, 165 minutes; SFA Business Manager, 60 minutes; Kitchen Manager, 30 minutes; School Principal Interview, 55 minutes. For the Level 1 self-administered, mail-based Menu Survey, the burden estimates are: 330 minutes per SFA director and 690 minute per Kitchen Manager. The burden of Level 3 in-person CAPI interviews with students is 40 minutes for younger children and 55 minutes for youth. The burden for in-person CAPI interviews with parents of younger children (interview plus assisting in the child's 24-hour dietary recall) is estimated at 50 minutes; the CATI telephone interview with parents of youth will require 20 minutes. The burden for in-person CAPI second recalls is 25 minutes in school and 30 minutes at home for younger children, and 35 minutes for youth. Parents of younger children will spend 30 minutes on in-person CAPI secondary recall interviews.

Estimated Number of Respondents: SFA directors for Preliminary SFA survey, 2,079; for Level 1 questionnaire, 672; for Level 1 and 3 menu survey, 280; for cost interview and Level 2 menu survey, 392.

Kitchen Managers: For Level 1 questionnaire, 2,016; for Level 1 and 3 menu survey, 840; for cost interview and Level 2 menu survey, 1,176.

School Principals: For Level questionnaire: 2,016, for cost interview, 1,176, SFA Business Managers, 392; Children and Youth, 2,812; Parents, 2,250.

Estimated Total Annual Burden on Respondents: Total of 37,140 hours, including 8,751 hours for SFA Directors; 21,924 hours for Kitchen Manager; 1,918 hours for Principals; 392 hours for SFA Business Managers; 716 hours for younger children; 2,393 hours for youth; and 1,046 hours for parents.

Comments: Comments are invited on (a) Whether the proposed collection of information is necessary for the proper performance of the functions of the Department, including whether the information will have practical utility; (b) the accuracy of the Agency's estimate of the burden of the proposed collection of information, including the validity of methodology and assumptions used; (c) ways to enhance the quality, utility, and clarity of the information to be collected; and (d) ways to minimize the burden of the collection of information on those who are to respond, including the use of appropriate, automated, electronic, mechanical or other technology. Comments should be sent to the address in the preamble. All responses to this notice will be summarized and included in the request for Office of Management and Budget (OMB) approval. All comments will also become a matter of public record.

Dated: June 30, 2003.
Susan Offutt,
Administrator, Economic Research Service, USDA.

[FR Doc. 03-18445 Filed 7-18-03; 8:45 am]

BILLING CODE 3410-78-M